GENERAL SERVICES ADMINISTRATION

Notice of Intent To Prepare a Supplemental Environmental Impact Statement

The General Services Administration (GSA), Greater Southwest Region, intends to prepare a Supplemental Environmental Impact Statement (SEIS) for the Phase III expansion of the Del Rio Port of Entry (POE), Del Rio, Texas.

Pursuant to the requirements of the National Environmental Policy Act of 1969 (NEPA), the Council on Environmental Quality's Regulations (40 CFR part 1500-1508)—, and GSA Order PBS P1095.1F (Environmental Considerations in Decision Making, dated 19 October 1999), GSA proposes to prepare a SEIS for the proposed Phase III expansion of the Del Rio POE which includes the proposed closure of a portion of Rio Grande Loop Road, south of the planned POE as documented in the 1992 EIS for the Phase II and III expansion of the Del Rio POE. The need for the proposed action arises due to the additional security requirements for border crossing into the United States due to the overall increased security requirements following the events of 11 September 2001.

The purpose of the proposed action is to facilitate entry into the planned Del Rio POE expansion for entrants from Mexico and limit security risks associated with border crossing activities.

Alternatives Under Consideration

A preliminary group of alternatives for the proposed action that would be evaluated in the SEIS has been developed by GSA, pending comment received during scoping.

Alternative 1 (No Action Alternative). Under this alternative the Del Rio POE would be expanded per the 1992 EIS finding allowing for pedestrian access along Rio Grande Loop Road.

Alternative 2. Under this alternative the Del Rio POE would be expanded per the 1992 EIS with pedestrian access to the east of the POE along Rio Grande Loop Road provided by an elevated walkway.

Alternative 3. Under this alternative the Del Rio POE would be expanded per the 1992 EIS with pedestrian access to the east of the POE along Rio Grande Loop Road provided by a tunnel walkway.

Alternative 4. Under this alternative the Del Rio POE would be expanded per the 1992 EIS with complete closure of Rio Grande Loop Road, which traverses the POE. GSA anticipates that the following categories of impacts will be addressed in the SEIS: Land use, economic, community, environmental justice, transportation system, air quality, noise, hazardous materials and substances, cultural resources, and natural systems. The SEIS will also address methods to mitigate any significant impacts. GSA will comply with its obligations under Section 106 of the National Historic Preservation Act to identify potential impacts to cultural resources. Comments received during scoping may result in consideration of additional issues.

Scoping Process

In accordance with NEPA, a scoping process will be conducted to aid in determining the scope of issues to be addressed and for identifying the significant issues related to the proposed action. Scoping will be accomplished through a public scoping meeting, direct mail correspondence to potentially interested persons, agencies, and organizations, and meetings with persons or agencies of special concern with an interest in the proposed actions. It is important that Federal, regional, state, and local agencies, and interested individuals and groups take this opportunity to identify environmental concerns that should be addressed during the preparation of the Draft SEIS.

Public Scoping Meeting

The public scoping meeting will be held at Del Rio Civic Center, 1915 Veterans Blvd., Del Rio, TX on 19 November 2003, from 7 p.m. to 9 p.m. The meeting will be an information open house, where visitors may come, receive information, discuss the proposal with study team members, give their comments, and leave anytime during the meeting period. GSA will publish notices announcing this meeting approximately one week prior to the meeting in the Del Rio News-Herald, the San Antonio Express News, and the Austin American-Statesman. GSA will prepare a scoping report, available to the public, that will summarize the comments received and facilitate their incorporation into the SEIS process.

Written Comments: Agencies and the public are encouraged to provide written comments on the scoping issues in addition to or in lieu of giving their comments at the public scoping meeting. Written comments regarding the environmental analysis for the proposed action must be postmarked no later than 28 November 2003, and sent to the following address: U.S. General Services Administration, Public Building Services, Greater Southwest Region, Attention: Lisa Schaub, Environmental Advisor, 819 Taylor Street, 7PM, Fort Worth, TX 76102.

Scoping Meeting Place

The meeting will be held at the following address: Del Rio Civic Center, 1915 Veterans Blvd., Del Rio, TX, Data: 19 November 2003, Time: 7 p.m. to 9 p.m.

Dated: November 7, 2003
Lisa Schaub,
Environmental Advisor, Greater Southwest Region, General Services Administration.

[FR Doc. 03-28491 Filed 11-13-03; 8:45 am]

BILLING CODE 6820-14-M